NATIONAL AERONAUTICS AND SPACE ADMINISTRATION

48 CFR Part 1852

RIN 2700-AE08

NASA Federal Acquisition Regulation Supplement (NFS): Contractor Whistleblower Protections; Technical Amendments

AGENCY: National Aeronautics and Space Administration (NASA).

ACTION: Final rule.

SUMMARY: This document makes amendments to the NASA FAR Supplement (NFS) in order to make editorial changes.

DATES: Effective: August 29, 2014.

FOR FURTHER INFORMATION CONTACT: Leigh Pomponio via email at leigh.pomponio@NASA.gov, or (202) 358-0592.

SUPPLEMENTARY INFORMATION: An interim rule was published in the Federal Register on July 29, 2014 (79 FR 43956-43961), amending 48 CFR part 1852.

In order to correct certain elements in 48 CFR part 1852, this document makes editorial changes to the NFS.

List of Subject in 48 CFR Part 1852

Government procurement.

Cynthia Boots,
Alternate Federal Register Liaison.

Therefore, NASA amends 48 CFR part 1852 as set forth below:

PART 1852—SOLICITATION PROVISIONS AND CONTRACT CLAUSES

1. The authority citation for 48 CFR part 1852 continues to read as follows:

Authority: 51 U.S.C. 20113(a) and 48 CFR chapter 1.

1852.203-71 [Amended]

2. Section 1852.203-71(a) is amended by removing “1803.09” and replacing it with “1803.9”.

1852.216-90 [Amended]

3. Section 1852.216-90 is amended by removing “As prescribed in 216.307-70(g)” and replacing it with “As prescribed in 1816.307-70(g)”.

[FR Doc. 2014-20612 Filed 8-28-14; 8:45 am]

BILLING CODE 7510-13-P